FEDERAL COMMUNICATIONS COMMISSION

[AU Docket No. 11-146; DA 11-2046]

Auction of FM Broadcast Construction Permits; Revised Construction Permit Number in Auction 93

AGENCY: Federal Communications Commission.

ACTION: Notice.

SUMMARY: This document announces a change to the construction permit number for one of the FM broadcast construction permits for Auction 93.

FOR FURTHER INFORMATION CONTACT: Linda Sanderson, Wireless Telecommunications Bureau, Auctions and Spectrum Access Division at (717) 338-2868.

SUPPLEMENTARY INFORMATION: This is a summary of the Auction 93 Construction Permit Number Change Public Notice released on December 21, 2011. The complete texts of the Auction 93 Construction Permit Number Change Public Notice, including its attachment, and related Commission documents, are available for public inspection and copying from 8 a.m. to 4:30 p.m. ET Monday through Thursday or from 8 a.m. to 11:30 a.m. ET on Fridays in the FCC Reference Information Center, 445 12th Street SW., Room CY-A257, Washington, DC 20554. The Auction 93 Construction Permit Number Change Public Notice and related Commission documents also may be purchased from the Commission's duplicating contractor, Best Copy and Printing, Inc. (BCPI), 445 12th Street SW., Room CY-B402, Washington, DC 20554, telephone (202) 488-5300, fax (202) 488-5563, or you may contact BCPI at its Web site: http://www.BCPIWEB.com. When ordering documents from BCPI, please provide FCC document number DA 11-2046 for the Auction 93 Construction Permit Number Change Public Notice. The Auction 93 Construction Permit Number Change Public Notice and related documents also are available on the Internet at the Commission's Web site: http://wireless.fcc.gov/auctions/93/, or by using the search function for AU Docket No. 11-146 on the Commission's Electronic Comment Filing System (ECFS) Web page at http://www.fcc.gov/cgb/ecfs/.

1. The Wireless Telecommunications and Media Bureaus announce a change to the construction permit number for one of the FM broadcast construction permits being offered in Auction 93. The number assigned to the construction permit for a Class A FM radio station on channel 252 at Culver, IN is changed from MM-FM900-A, as listed in Attachment A to the Auction 93 Procedures Public Notice, 76 FR 78645, December 19, 2011, to MM-FM389-A. Attachment A to the Auction 93 Revised Construction Permit Public Notice reflects this change and also includes an indicator that a permit for this allotment was won in Auction 62, but the winning bidder defaulted.

2. For additional information about Auction 93, including filing deadlines and an overview of requirements to participate in the auction, you should consult the Auction 93 Procedures Public Notice. That Public Notice and additional information about Auction 93 may be found on the Commission's Auction Web site at http://wireless.fcc.gov/auctions.

Federal Communications Commission.
William W. Huber,
Associate Chief, Auctions and Spectrum Access Division, WTB.

[FR Doc. 2011-33509 Filed 12-28-11; 8:45 am]

BILLING CODE 6712-01-P